DEPARTMENT OF ENERGY

Federal Energy Regulatory Commission

[Docket No. RP01-573-000]

Black Marlin Pipeline Company; Notice of Tariff Filing and Annual Charge Adjustment

September 7, 2001.

Take notice that on August 31, 2001, Black Marlin Pipeline Company (Black Marlin) tendered for filing to its FERC Gas Tariff, First Revised Volume No. 1, Tenth Revised Sheet No. 4. The tariff sheet is proposed to be effective October 1, 2001.

Black Marlin states that the purpose of the instant filing is to reflect a decrease in the Annual Charge Adjustment (ACA) Charge in the commodity portion of Black Marlin's rates. Pursuant to Order No. 472, the Commission has assessed Black Marlin its ACA unit Rate of $.0021/dt, effective October 1, 2001.

Black Marlin states that copies of the filing are being mailed to affected customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23125 Filed 9-14-01; 8:45 am]

BILLING CODE 6717-01-P